DEPARTMENT OF HOUSING AND URBAN DEVELOPMENT

[Docket No. FR-7025-N-09]

60-Day Notice of Proposed Information Collection: Continuum of Care (CoC) Program Registration; OMB Control No: 2506-0182

AGENCY: Office of the Assistant Secretary for Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 16, 2021.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Sherri Boyd, Senior Program Specialist, Office of Special Needs Assistance Programs, Department of Housing and Urban Development, 451 7th Street SW, Washington, DC 20410; email Sherri Boyd at Sherri.L.Boyd@hud.gov, 202-402-6070. This is not a toll-free number. Persons with hearing or speech impairments may access this number through TTY by calling the toll-free Federal Relay Service at (800) 877-8339. Copies of available documents submitted to OMB may be obtained from Ms. Boyd.

SUPPLEMENTARY INFORMATION: This notice informs the public that HUD is seeking approval from OMB for the information collection described in Section A.

A. Overview of Information Collection

Title of Information Collection: Continuum of Care (CoC) Program Registration.

OMB Approval Number: 2506-0182.

Type of Request: Extension of currently approved collection.

Form Number: None.

Description of the need for the information and proposed use: This submission is to request an extension of an existing collection in use without an OMB Control Number for the Recordkeeping for HUD's Continuum of Care Program. Continuum of Care program recipients will be expected to implement and retain the information collection for the recordkeeping requirements. The statutory provisions and implementing interim regulations govern the Continuum of Care Program recordkeeping requirements for recipient and subrecipients and the standard operating procedures for ensuring that Continuum of Care Program funds are used in accordance with the program requirements. To see the regulations for the new CoC program and applicable supplementary documents, visit HUD's Homeless Resource Exchange at https://www.onecpd.info/resource/2033/hearth-coc-program-interim-rule/.

Respondents (i.e. affected public): Nonprofit organizations, states, local governments, and instrumentalities of state and local governments. Includes Public Housing Agencies (PHAs), as such term is defined in 24 CFR 5.100.

Estimated Number of Respondents: 400.

Estimated Number of Responses: 400.

Frequency of Response: Annually.

Average Hours per Response: See chart.

Total Estimated Burdens: See chart.

Information collection | Number of respondents | Frequency of response | Responses per annum | Burden hour per response | Annual burden hours | Hourly cost per response | Annual cost
CoC Registration—Basic | 400 | 1 | 400 | 1 | 400 | $41.37 | $16,548
CoC Registration—UFA designation request * | 20 | 1 | 20 | 15 | 300 | 41.37 | 12,411
CoC Registration—HPC designation request * | 5 | 1 | 5 | 10 | 50 | 41.37 | 2,068.50
Grant Inventory Worksheet | 400 | 1 | 400 | 8 | 3,200 | 41.37 | 132,384
Total | 400 | 1 | 400 |  |  |  | 163,411.50
* Responses to UFA and HPC designations are subsets of the total 400 basic registration numbers as the basic CoC Registration is completed by all Collaborative Applicants to register the CoCs. On average there are 20 requests for UFA designation and to date no requests for HPC designation.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

John Gibbs,
Principal Deputy Assistant Secretary for Community Planning and Development.

[FR Doc. 2020-27764 Filed 12-16-20; 8:45 am]

BILLING CODE 4210-67-P